DEPARTMENT OF HEALTH AND HUMAN SERVICES

Centers for Disease Control and Prevention

[30DAY-07-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: The State and Local Area Integrated Telephone Survey (SLAITS) (OMB No. 0920-0416)—Revision—National Center for Health Statistics (NCHS), Centers for Disease Control and Prevention (CDC). This is a request to continue for three years the integrated and coordinated survey system designed to collect needed health and welfare related data at the state and local levels. Using the random-digit-dial sampling frame from the ongoing National Immunization Survey (NIS) and Computer Assisted Telephone Interviewing (CATI), the State and Local Area Integrated Telephone Survey (SLAITS) has quickly collected and produced data to monitor health status, child and family well-being, health care utilization, access to care, program participation, chronic conditions, and changes in health care coverage at the state and local levels. These efforts are conducted in cooperation with Federal, state, and local officials. SLAITS offers a centrally administered data collection mechanism with standardized questionnaires and quality control measures which allow comparability of estimates between states, over time, and with national data. SLAITS is designed to allow oversampling of population subdomains and to meet federal, state and local needs for subnational estimates which are compatible with national data.

For some SLAITS modules, questionnaire content was drawn from existing surveys including the National Health Interview Survey (NHIS), the National Health and Nutrition Examination Survey (NHANES), the Current Population Survey (CPS), the Survey of Income and Program Participation (SIPP), the National Household Education Survey, and the National Survey of America's Families. Other questionnaire modules were developed specifically for SLAITS during the pilot study phase and during the past three years. The existing modules include General Health, Child Well-Being and Welfare, Children with Special Health Care Needs, Asthma Prevalence and Treatment, Knowledge of Medicaid and the State Children's Health Insurance Program (SCHIP), Survey of Early Childhood Health, and HIV/STD Related Risk Behavior.

Over the past three years, SLAITS has provided policy analysts, program planners, and researchers with high quality data for decision making and program assessment. The module on Medicaid and SCHIP will be featured prominently in a report to Congress on insuring children. The module on children with special health care needs (CSHCN) will be used by federal and state Maternal and Child Health Bureau Directors in evaluating programs and service needs. The American Academy of Pediatrics is using the module on early childhood health to advise pediatricians on patient care standards and informing parents about the health and well-being of young children.

Funding for SLAITS is obtained through a variety of mechanisms including Foundation grants, State collaborations, and federal appropriation and evaluation monies. The level of implementation depends on the amount of funding received and can be expanded as funding permits. Questionnaire modules will be compiled to address the data needs of interest to the federal, state or local funding agency or organization. Possible topics include but are not limited to disability, children's health, violence against women, health behaviors, unintentional injuries, program participation, health care coverage, or any of the topics previously studied. The annualized burden for this data collection is 150,606 hours.

Module | Year | Number of responses | Responses per respondent | Average burden (in hours)
Asthma—Screener | 2002 | 36,000 | 1 | 8/60
Asthma—Survey |  | 4,920 | 1 | 20/60
Pretest—General Children's Health— Screener | 2002 | 4,398 | 1 | 5/60
Pretest—General Children's Health— Survey |  | 1,000 | 1 | 20/60
General Children's Health—Screener | 2003 | 448,596 | 1 | 5/60
General Children's Health—Survey |  | 102,000 | 1 | 20/60
Pretest Module #3 Screener | 2003 | 4,398 | 1 | 5/60
Pretest Module #3 Survey |  | 1,000 | 1 | 20/60
Module #3 Screener | 2004 | 448,596 | 1 | 5/60
Module #3 Survey |  | 102,000 | 1 | 20/60
Pretest 2005 Module—Screener | 2004 | 4,398 | 1 | 5/60
Pretest 2005 Module—Survey |  | 1,000 | 1 | 20/60

Dated: November 20, 2001.
Nancy E. Cheal,
Acting Associate Director for Policy, Planning, and Evaluation, Centers for Disease Control and Prevention.

[FR Doc. 01-29432 Filed 11-26-01; 8:45 am]

BILLING CODE 4163-18-P